DEPARTMENT OF THE INTERIOR

National Park Service

[NPS-WASO-NAGPRA-NPS0035007; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology (PMAE), Harvard University has completed an inventory of associated funerary objects and has determined that there is a cultural affiliation between the associated funerary objects and Indian Tribes or Native Hawaiian organizations in this notice. The associated funerary objects were removed from Tuscaloosa County, Alabama.

DATES: Repatriation of the associated funerary objects in this notice may occur on or after January 17, 2023.

ADDRESSES: Patricia Capone, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

In 1906, two associated funerary objects were removed from the Moundville (01-TU-0500) site in Tuscaloosa County, AL, by C.B. Moore. The two objects are one complete ceramic bottle from the Field west of Mound R and one complete ceramic cup from the Field south of Mound D. These objects were donated to the PMAE in 1907 by Moore.

Museum records do not indicate that human remains from excavations at Moundville were sent to the PMAE; however, in 1907, Moore reported that he sent human remains to the United States Army Medical Museum (AMM) and the Academy of Natural Sciences of Philadelphia. Additional human remains were likely sent to other institutions by Moore or transferred between institutions at a later date. Twenty-eight human remains sent to AMM were reported in a Notice of Inventory Completion published in the Federal Register on October 17, 2017, by the National Museum of Health and Medicine. At least two human remains sent to the Academy of Natural Sciences of Philadelphia were reported in a NAGRPA inventory by the University of Pennsylvania Museum of Archaeology and Anthropology.

The PMAE does not have a record of human remains from Moundville being at PMAE; however, based on museum documentation (including recently received from other museums), field notes, and subsequent review of consultation, historical, and archeological evidence, the PMAE believes there is evidence to reasonably document human remains held in a museum on or after November 16, 1990 as associated with the aforementioned funerary objects.

Cultural Affiliation

The associated funerary objects in this notice are connected to one or more identifiable earlier groups, tribes, peoples, or cultures. There is a relationship of shared group identity between the identifiable earlier groups, tribes, peoples, or cultures and one or more Indian Tribes or Native Hawaiian organizations. The following types of information were used to reasonably trace the relationship The following types of information were used to reasonably trace the relationship: anthropological information, archeological information, biological information, geographical information, historical information, kinship, linguistics, oral tradition, and other relevant information and/or expert opinion.

Determinations

Pursuant to NAGPRA and its implementing regulations, and after consultation with the appropriate Indian Tribes and Native Hawaiian organizations, the PMAE has determined that:

• The two objects described in this notice are reasonably believed to have been placed with or near individual human remains at the time of death or later as part of the death rite or ceremony.

• There is a relationship of shared group identity that can be reasonably traced between the cultural items and the present-day Muskogean speaking Tribes: Alabama-Coushatta Tribe of Texas (previously listed as Alabama-Coushatta Tribes of Texas); Alabama-Quassarte Tribal Town; Coushatta Tribe of Louisiana; Jena Band of Choctaw Indians; Seminole Tribe of Florida (previously listed as Seminole Tribe of Florida (Dania, Big Cypress, Brighton, Hollywood, & Tampa Reservations)); The Chickasaw Nation; The Choctaw Nation of Oklahoma; The Muscogee (Creek) Nation; The Seminole Nation of Oklahoma; and the Thlopthlocco Tribal Town.

Requests for Repatriation

Written requests for repatriation of the associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after January 17, 2023. If competing requests for repatriation are received, the PMAE must determine the most appropriate requestor prior to repatriation. Requests for joint repatriation of the associated funerary objects are considered a single request and not competing requests. The PMAE is responsible for sending a copy of this notice to the Indian Tribes and Native Hawaiian organizations identified in this notice.

Authority: Native American Graves Protection and Repatriation Act, 25 U.S.C. 3003, and the implementing regulations, 43 CFR 10.9, 10.10, and 10.14.

Dated: December 7, 2022.
Melanie O'Brien,
Manager, National NAGPRA Program.

[FR Doc. 2022-27181 Filed 12-14-22; 8:45 am]

BILLING CODE 4312-52-P